ENVIRONMENTAL PROTECTION AGENCY

[FRL-8185-3]

Proposed Reissuance of General NPDES Permits (GPs) for Aquaculture Facilities in Idaho Subject to Wasteload Allocations Under Selected Total Maximum Daily Loads (Permit Number IDG-13-0000), Cold Water Aquaculture Facilities in Idaho (Not Subject to Wasteload Allocations) (Permit Number IDG-13-1000), and Fish Processors Associated With Aquaculture Facilities in Idaho (Permit Number IDG-13-2000)

AGENCY: Environmental Protection Agency (EPA).

ACTION: Notice of Availability of three draft general NPDES permits.

SUMMARY: On September 27, 2004, a general permit regulating the activities of aquaculture facilities in Idaho and associated on-site fish processors expired. The Director, Office of Water and Watersheds, EPA Region 10, proposes to reissue three general permits to cover facilities covered under the previous permit. These general permits also will cover facilities currently operating under individual permits, thereby terminating the authorization to discharge under the individual permits.

DATES: Comments must be received or postmarked by August 3, 2006. A fact sheet has been prepared which sets forth the principal factual, legal, policy, and scientific information considered in the development of the draft general permits. The general permits and fact sheet may be downloaded at http://yosemite.epa.gov/r10/WATER.NSF/NPDES+Permits/General+NPDES+Permits#Aquaculture. Copies of the draft general permits and fact sheet are available upon request from Audrey Washington at 206-553-0523 or at washington.audrey@epa.gov. In addition, they will be available at:

U.S. EPA Region 10, NPDES Permits Unit, 1200 Sixth Avenue, OWW-130. Seattle, Washington 98101.

U.S. EPA Region 10, Idaho Operations Office, 1435 North Orchard Street, Boise, Idaho 83706. (208) 378-5746.

Idaho DEQ, Twin Falls Regional Office, 1363 Fillmore Avenue, Twin Falls, Idaho 83301. 208-736-2190.

Idaho DEQ, Pocatello Regional Office, 444 Hospital Way, Suite 300, Pocatello, Idaho 83204. 208-236-6160.

Idaho DEQ, Coeur d'Alene Regional Office, 2110 Ironwood Pkwy, Coeur d'Alene, Idaho 83814. 208-769-1422.

Twin Falls Public Library, 201 4th Ave East, Twin Falls, ID 83301. 208-733-2964.

Buhl Public Library, 215 Broadway North, Buhl, ID 83316. 208-543-6500.

Boise Public Library, 715 S. Capitol Blvd., Boise, ID 83702. 208-384-4076.

Public Comment: Interested persons may submit written comments on the draft permits to the attention of Sharon Wilson at the address below. All comments should include the name, address, and telephone number of the commenter and a concise statement of comment and the relevant facts upon which it is based. Comments of either support or concern which are directed at specific, cited permit requirements are appreciated.

After the expiration date of the Public Notice on August 3, 2006, the Director, Office of Water and Watersheds, EPA Region 10, will make a final determination with respect to issuance of the general permits. The proposed requirements contained in the draft general permits will become final upon issuance if no significant comments are received during the public comment period.

ADDRESSES: Comments on the proposed General Permits should be sent to Sharon Wilson, Office of Water and Watersheds; USEPA Region 10; 1200 Sixth Avenue, OWW-130; Seattle, Washington 98101 or by e-mail to wilson.sharon@epa.gov.

FOR FURTHER INFORMATION, CONTACT: Carla Fromm, 208-378-5755, fromm.carla@epa.gov or Sharon Wilson, 206-553-0325, wilson.sharon@epa.gov. Copies of the draft general permit and fact sheet may be downloaded from the EPA Region 10 Web site at http://yosemite.epa.gov/R10/WATER.NSF/NPDES+Permits/General+NPDES+Permits#Aquaculture. They are also available upon request from Audrey Washington at (206) 553-0523, or e-mailed to washington.audrey@epa.gov.

SUPPLEMENTARY INFORMATION:

Public Meeting

EPA will hold an open house and public meeting to provide an overview of the permits and to answer questions in Twin Falls, Idaho on June 29, 2006.

Location: Idaho Department of Health & Welfare Conference Room.

Address: 601 Pole Line Road, Twin Falls, Idaho.

Date: June 29, 2006

Open House: 6-6:45 p.m.

Permits Overview: 7-7:30 p.m.

Questions & Answers: 7:30 to 9 p.m. or until done.

Public Hearing

Written comments receive as much consideration as oral comments at a public hearing. Persons wishing to request a public hearing should submit their written request by August 3, 2006 stating the nature of the issues to be raised as well as the requester's name, address and telephone number to Sharon Wilson at the address above. If a public hearing is scheduled, notice will be published in the Federal Register. Notice will also be posted on the Region 10 Web site and will be mailed to all interested persons receiving notice of availability of the draft permit.

Administrative Record

The complete administrative record for the draft permit is available for public review at the EPA Region 10 office at the address listed above.

Other Legal Requirements

A. Endangered Species Act

EPA has determined that issuance of the General Permits is not likely to adversely affect threatened or endangered salmonids, designated critical habitat, or essential fish habitat. Issuance of the General Permits to cold water aquaculture facilities and fish processors is not likely to adversely affect threatened or endangered snail species or their designated critical habitat, but issuance of the Wasteload Allocation Permit to four warm water facilities in Idaho is likely to affect the three listed snail species because of the increase in temperature of the receiving streams in the immediate vicinity of these facilities. EPA has determined that issuance of the General Permits will have no affect on any terrestrial threatened or endangered species or their designated critical habitat.

B. Executive Order 12866

EPA has determined that this general permit is not a “significant regulatory action” under the terms of Executive Order 12866 and is therefore not subject to OMB review.

C. Paperwork Reduction Act

The information collection requirements of this permit were previously approved by the Office of Management and Budget (OMB) under the provisions of the Paperwork Reduction Act, 44 U.S.C. 3501 et seq., and assigned OMB control numbers 2040-0086 (NPDES permit application) and 2040-0004 (discharge monitoring reports).

D. Regulatory Flexibility Act

The Regulatory Flexibility Act (RFA), 5 U.S.C. 601 et seq., requires that EPA prepare a regulatory flexibility analysis for rules subject to the requirements of 5 U.S.C. 553(b) that have a significant impact on a substantial number of small entities. However, general NPDES permits are not “rules” subject to the requirements of 5 U.S.C. 553(b) and are therefore not subject to the RFA.

E. Unfunded Mandates Reform Act

Section 201 of the Unfunded Mandates Reform Act (UMRA), Public Law 104-4, generally requires Federal agencies to assess the effects of their “regulatory actions” (defined to be the same as “rules” subject to the RFA) on tribal, state, and local governments and the private sector. However, general NPDES permits are not “rules” subject to the requirements of 5 U.S.C. 553(b) and are therefore not subject to the RFA or the UMRA.

Dated: June 12, 2006.
Michael F. Gearheard,
Director, Office of Water & Watersheds, Region 10.

[FR Doc. E6-9575 Filed 6-16-06; 8:45 am]

BILLING CODE 6560-50-P